DEPARTMENT OF DEFENSE

48 CFR Parts 202, 232, and 252

Defense Federal Acquisition Regulation Supplement; Technical Amendments

AGENCY: Department of Defense (DoD).

ACTION: Final rule.

SUMMARY: DoD is making technical amendments to the Defense Federal Acquisition Regulation Supplement to update activity names and Internet addresses.

EFFECTIVE DATE: January 13, 2004.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 202, 232, and 252

Government procurement.

Michele P. Peterson,
Executive Editor, Defense Acquisition Regulations Council.

Therefore, 48 CFR Parts 202, 232, and 252 are amended as follows:

1. The authority citation for 48 CFR Parts 202, 232, and 252 continues to read as follows:

Authority: 41 U.S.C. 421 and 48 CFR Chapter 1.

PART 202—DEFINITIONS OF WORDS AND TERMS

§ 202.101 [Amended]

2. Section 202.101 is amended in the definition of “Contracting activity”, under the heading “DEFENSE LOGISTICS AGENCY”, by removing “Office of the Executive Director, Logistics Policy and Acquisition Management” and adding in its place “Office of the Deputy Director, Logistics Operations”.

PART 232—CONTRACT FINANCING

232.7003 [Amended]

3. Section 232.7003 is amended in paragraph (a)(1), in the parenthetical, by removing “https://rmb.ogden.disa.mil” and adding in its place “https://wawf.eb.mil”.

PART 252—SOLICITATION PROVISIONS AND CONTRACT CLAUSES

252.232-7003 [Amended]

4. Section 252.232-7003 is amended as follows:

a. By revising the clause date to read “(JAN 2004)”; and

b. In paragraph (b)(1) by removing “https://rmb.ogden.disa.mil” and adding in its place “https://wawf.eb.mil”.

[FR Doc. 04-567 Filed 1-12-04; 8:45 am]

BILLING CODE 5001-08-P